DEPARTMENT OF TRANSPORTATION

Federal Aviation Administration

14 CFR Part 97

[Docket No. 29920; Amdt. No. 1974]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—

Individual SIAP copies may be obtained from:

1. FAA Public Inquiry Center (APA-200), FAA Headquarters Building, 800 Independence Avenue, SW., Washington, DC 20591; or

2. The FAA Regional Office of the region in which the affected airport is located.

By Subscription—

Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC) /Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency section of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on February 4, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§ § 97.23, 97.25, 9727, 97.31, 97.33 AND 97.35 [Amended]

By amending; § 97.23 VOR,/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV, § 97.31 RADAR SIAPs; § 97.33 RNAV SIAPs; and § 97.35 COPTER SIAPs, identified as follows:

EFFECTIVE UPON PUBLICATION

FDC date | State | City | Airport | FDC No. | SIAP
01/10/00 | GA | MARIETTA | COBB COUNTY—MCCOLLUM FIELD | FDC 0/0261 | GPS RWY 9 ORIG... CORRECTS TL-04
01/14/00 | GA | DEADHORSE | DEADHORSE | FDC 0/0387 | VOR/DME OR TACAN RWY 22 AMDT 2...
01/18/00 | GA | MARIETTA | COBB COUNTY—MCCOLLUM FIELD | FDC 0/0460 | VOR/DME RWY 9, ORIG-C
01/19/00 | AK | DEADHORSE | DEADHORSE | FDC 0/0491 | LOC/DME BC RWY WW AMDT 8... THIS REPLACES FDC 0/03888
01/19/00 | AK | HOMER | HOMER | FDC 0/0499 | GPS RWY 3, ORIG-A... THIS REPLACES FDC 0/0247 AND 9/9697
01/19/10 | OR | AURORA | AURORA STATE | FDC 0/0498 | VOR/DME OR GPS-A, AMDT 2...
01/19/00 | OR | EUGENE | MAHLON SWEET FIELD | FDC 0/0496 | VOR/DME OR TACAN RWY 3 AMDT 3...
01/19/00 | OR | EUGENE | MAHLON SWEET FIELD | FDC 0/0497 | GPS RWY 3 ORIG...
01/19/00 | OR | HERMISTON | HERMISTON MUNI | FDC 0/0495 | VOR/DME OR GPW-A, AMDT 2...
01/19/00 | PA | COATESVILLE | CHESTER COUNTY G.O. CARLSON | FDC 0/0486 | GPS RWY 29, ORIG...
01/19/00 | PA | COATESVILLE | CHESTER COUNTY G.O. CARLSON | FDC 0/0487 | GPS RWY 11, ORIG...
01/19/00 | PA | COATESVILLE | CHESTER COUNTY G.O. CARLSON | FDC 0/0488 | ILS RWY 29, AMDT 6B..
01/19/00 | TX | BRENHAM | BRENHAM MUNI | FDC 0/0478 | GPS RWY 16, ORIG...
01/19/00 | WI | EAU CLAIRE | CHIPPEWA VALLEY REGIONAL | FDC 0/0481 | VOR OR GPS-A, AMDT 21...
01/19/00 | WI | EAU CLAIRE | CHIPPEWA VALLEY REGIONAL | FDC 0/0483 | ILS RWY 22, AMDT 6...
01/19/00 | WI | EAU CLAIRE | CHIPPEWA VALLEY REGIONAL | FDC 0/0484 | NDB OR GPS RWY 22, AMDT 6...
01/20/00 | AK | KOTZBUE | RALPH WIEN MEMORIAL | FDC 0/0520 | VOR/DME RWY 27, AMDT 1A...
01/20/00 | AL | TALLAGEGA | TALLAGEGA MUNI | FDC 0/0463 | VOR/DME RWY 3, AMDT 4...
01/20/00 | AZ | TAYLOR | TAYLOR MUNI | FDC 0/0521 | GPS RWY 21, ORIG...
01/20/00 | GA | NASHVILLE | BERRIEN COUNTY | FDC 0/0527 | GPS RWY 9, ORIG...
01/20/00 | PA | REEDSVILLE | MIFFLIN COUNTY | FDC 0/0510 | LOC RWY 5, AMDT 7A...
01/20/00 | TX | HARLINGEN | VALLEY INTL | FDC 0/0511 | VOR/DME OR TACAN RWY 31 ORIG... THIS REPLACES FDC 0/0131
01/21/00 | CA | SAN DIEGO | SAN DIEGO INTL-LINDBERG FIELD | FDC 0/0539 | LOC RWY 27 AMDT. 2B...
01/21/00 | OH | YOUNGSTOWN | YOUNGSTOWN-WARREN REGIONAL | FDC 0/0564 | NBD OR GPS RWY 32, AMDT 18...
01/21/00 | OR | ONTARIO | ONTARIO MUNI | FDC 0/0535 | NDB OR GPS RWY 32, AMDT 4...
01/21/00 | SC | COLUMBIA | COLUMBIA METROPOLITAN | FDC 0/0568 | RADAR-1 AMDT 9A...
01/21/00 | SC | COLUMBIA | COLUMBIA METROPOLITAN | FDC 0/0574 | ILS RWY 11 (CAT I, II, III), AMDT 14...
01/21/00 | SC | COLUMBIA | COLUMBIA METROPOLITAN | FDC 0/0575 | ILS RWY 29, AMDT 3D...
01/21/00 | SC | COLUMBIA | COLUMBIA METROPOLITAN | FDC 0/0576 | VOR GR GPS-A, AMDT 15...
01/21/00 | SC | COLUMBIA | COLUMBIA METROPOLITAN | FDC 0/0577 | GPS RWY 5, ORIG...
01/21/00 | SC | COLUMBIA | COLUMBIA METROPOLITAN | FDC 0/0578 | GPS RWY 23, ORIG-A...
01/21/00 | TX | WACO | TSTC WACO | FDC 0/0541 | RADAR-1, AMDT 3...
01/21/00 | TX | WACO | TSTC WACO | FDC 0/0553 | NDB RWY 17L, AMDT 9...
01/21/00 | TX | WACO | TSTC WACO | FDC 0/0554 | GPS RWY 17L, ORIG...
01/21/00 | TX | WACO | TSTC WACO | FDC 0/0557 | GPS RWY 35R, ORIG...
01/21/00 | TX | WACO | TSTC WACO | FDC 0/0558 | ILS RWY 17L, AMDT 11A...
01/21/00 | WY | LARAMIE | LARAMIE REGIONAL | FDC 0/0563 | VOR/DME OR TACAN OR GPS RWY 30, AMDT 6...
01/21/00 | WY | SHERIDAN | SHERIDAN COUNTY | FDC 0/0561 | ILS/DME RWY 32, ORIG-A...
01/21/00 | WY | SHERIDAN | SHERIDAN COUNTY | FDC 0/0562 | VOR OR GPS RWY 14, ORIG...
01/24/00 | KS | MANHATTAN | MANHATTAN REGIONAL | FDC 0/0643 | ILS RWY 3, AMDT 6B...
01/24/00 | KS | MANHATTAN | MANHATTAN REGIONAL | FDC 0/0644 | NDB OR GPS-A, AMDT 19B...
01/24/00 | KS | MANHATTAN | MANHATTAN REGIONAL | FDC 0/0645 | VOR/DME OR GPS-F, ORIG-A...
01/24/00 | KS | MANHATTAN | MANHATTAN REGIONAL | FDC 0/0646 | VOR-H, AMDT 14A...
01/24/00 | KS | MANHATTAN | MANHATTAN REGIONAL | FDC 0/0647 | VOR OR GPS RWY 3, AMDT 17A...
01/24/00 | MN | LITCHFIELD | LITCHFIELD MUNI | FDC 0/0658 | VOR/DME RWY 13, ORIG...
01/24/00 | NC | WASHINGTON | WARREN FIELD | FDC 0/0599 | NDB RWY 5, ORIG-A...
01/24/00 | NY | FARMINGDALE | REPUBLIC | FDC 0/0659 | ILS RWY 14 AMDT 7...
01/24/00 | OR | EUGENE | MAHLON SWEET FIELD | FDC 0/0650 | VOR/DME OR TACAN RWY 34, AMDT 4...
01/24/00 | OR | PENDLETON | EASTERN OREGON REGIONAL AT PENDLETON | FDC 0/0649 | VOR OR GPS RWY 7, AMDT 14...
01/24/00 | PA | LATROBE | ARNOLD PALMER REGIONAL | FDC 0/0657 | ILS RWY 23, AMDT 15...
01/24/00 | PA | MEADVILLE | PORT MEADVILLE | FDC 0/0662 | LOC RWY 25 AMDT 3A...
01/24/00 | PA | MEADVILLE | PORT MEADVILLE | FDC 0/0663 | GPS RWY 25 ORIG...
01/24/00 | PA | MEADVILLE | PORT MEADVILLE | FDC 0/0664 | VOR OR GPS RWY 7 AMDT 6...
01/24/00 | TX | WACO | TSTC WACO | FDC 0/0661 | NDB RWY 35R, AMDT 10...
01/26/00 | KS | CHANUTE | CHANUTE MARTIN JOHNSON | FDC 0/0721 | VOR/DME RNAV OR GPS RWY 36, AMDT 3B...
01/26/00 | KS | CHANUTE | CHANUTE MARTIN JOHNSON | FDC 0/0722 | VOR/DME OR GPSLA, AMDT 9B...
01/27/00 | AK | PETERSBURG | JAMES A... JOHNSON | FDC 0/0759 | LDA-DME-D, AMDT 5B...
01/27/00 | AL | DECATUR | DECATUR/PRYOR FIELD REGIONAL | FDC 0/0752 | VOR OR GPS RWY 18, AMDT 12...
01/27/00 | NM | CLOVIS | CLOVIS MUNI | FDC 0/0742 | VOR RWY 22, AMDT 4...
01/27/00 | NM | CLOVIS | CLOVIS MUNI | FDC 0/0743 | GPS RWY 22, ORIG...
01/28/00 | AL | DECATUR | DECATUR/PRYOR FIELD REGIONAL | FDC 0/0780 | VOR OR GPS RWY 36, AMDT 4...
01/28/00 | FL | WILLLISTON | WILLISTON MUNI | FDC 0/0813 | GPS RWY 22, ORIG...
01/28/00 | KY | PIKEVILLE | PIKE COUNTY-HATCHER FIELD | FDC 0/0778 | GPS RWY 8, ORIG...
01/28/00 | KY | PIKEVILLE | PIKE COUNTY-HATCHER FIELD | FDC 0/0779 | GPS RWY 26, ORIG...
01/28/00 | PA | DOYLESTOWN | DOYLESTOWN | FDC 0/0795 | VOR OR GPS RWY 23 AMDT 6...
01/28/00 | PA | DOYLESTOWN | DOYLESTOWN | FDC 0/0801 | NDB RWY 23 AMDT 2...
01/28/00 | TN | MEMPHIS | MEMPHIS INTL | FDC 0/0775 | ILS RWY 27 AMDT 2...
01/31/00 | CA | SAN DIEGO | SAN DIEGO INTL-LINDBERGH FIELD | FDC 0/0849 | NDB OR GPS RWY 27 AMDT 1B...
01/31/00 | LA | SHREVEPORT | SHREVEPORT REGIONAL | FDC 0/0852 | ILS RWY 14 (CAT I, II), AMDT 23...
01/31/00 | MO | JEFFERSON CITY | JEFFERSON CITY MEMORIAL | FDC 0/0866 | GPS RWY 30, ORIG...
01/31/00 | MO | JEFFERSON CITY | JEFFERSON CITY MEMORIAL | FDC 0/0867 | GPS RWY 12, ORIG...
01/31/00 | UT | OGDEN | OGDEN-HINCKLEY | FDC 0/0869 | VOR RWY 7, AMDT 5A...
02/01/00 | AZ | PHOENIX | PHOENIX SKY HARBOR INTL | FDC 0/0954 | LOC BC RWY 26L AMDT 9...
02/01/00 | AZ | TUCSON | TUCSON INTL | FDC 0/0951 | LOC/DME BC RWY 29R AMDT 7...
02/01/00 | AZ | TUCSON | TUCSON INTL | FDC 0/0952 | VOR/DME OR TACON OR GPS RWY 29R AMDT2...
02/01/00 | AZ | WINDOW ROCK | WINDOW ROCK | FDC 0/0909 | VOR/DME OR GPS-A ORIG-A...
02/01/00 | AZ | YUMA | YUMA MICAS-YUMA INTL | FDC 0/0948 | GPS RWY 17 ORIG...
02/01/00 | AZ | YUMA | YUMA MICAS-YUMA INTL | FDC 0/0964 | VOR/DME OR TACAN-1 RWY 17 AMDT 1...
02/01/00 | CA | BAKERSFIELD | MEADOWS FIELD | FDC 0/0906 | GPS RWY 30R ORIG...
02/01/00 | CA | BAKERSFIELD | MEADOWS FIELD | FDC 0/0910 | NDB RWY 30R AMDT 6A...
02/01/00 | CA | SAN FRANCISCO | SAN FRANCISCO INTL | FDC 0/0967 | VOR RWY 19L AMDT 8A...
02/01/00 | GA | ATLANTA | THE WILLIAM B. HARTSFIELD ATLANTA INTL | FDC 0/0805 | ILS RWY 9L, AMDT 6A...
02/01/00 | CA | ATLANTA | THE WILLIAM B. HARTSFIELD ATLANTA INTL | FDC 0/0940 | VOR OR GPS RWY 27L, AMDT 4...
02/01/00 | GA | ATLANTA | THE WILLIAM B. HARTSFIELD ATLANTA INTL | FDC 0/0941 | ILS RWY 27L, AMDT 13...
02/01/00 | GA | ATLANTA | THE WILLIAM B. HARTSFIELD ATLANTA INTL | FDC 0/0944 | ILS RWY 27R, AMDT 3A...
02/01/00 | GA | ATLANTA | THE WILLIAM B. HARTSFIELD ATLANTA INTL | FDC 0/0946 | ILS RWY 26L, AMDT 17B...
02/01/00 | GA | ATLANTA | THE WILLIAM B. HARTSFIELD ATLANTA INTL | FDC 0/0947 | ILS RWY 8L (CAT II, III), AMDT 1B...
02/01/00 | GA | ATLANTA | THE WILLIAM B. HARTSFIELD ATLANTA INTL | FDC 0/0950 | ILS RWY 8R (CAT II), AMDT 58A...
02/01/00 | GA | ATLANTA | THE WILLIAM B. HARTSFIELD ATLANTA INTL | FDC 0/0953 | ILS RWY 9R (CAT II, III), AMDT 16...
02/01/00 | NV | RENO | RENO/TAHOR INTL | FDC 0/0959 | LOC/DME BC RWY 34L AMDT 1A...
02/01/00 | NV | TONOPAH | TONOPAH | FDC 0/0960 | GPS RWY 15 ORIG...
02/01/00 | OR | EUGENE | MAHLON SWEET FIELD | FDC 0/0979 | GPS RWY 34, ORIG...
02/01/00 | PA | BEAVER FALLS | BEAVER COUNTY | FDC 0/0968 | LOC RWY 10 AMDT 3...
02/01/00 | PA | BEDFORD | BEDFORD COUNTY | FDC 0/0919 | GPS RWY 32 ORIG...
02/01/00 | PA | BEDFORD | BEDFORD COUNTY | FDC 0/0920 | GPS RWY 14 ORIG...
02/01/00 | PA | BEDFORD | BEDFORD COUNTY | FDC 0/0922 | VOR OR GPS-A ORIG...
02/01/00 | PA | ERIE | ERIE INTL | FDC 0/0936 | ILS RWY 24 AMDT 7A...
02/01/00 | PA | ERIE | ERIE INTL | FDC 0/0938 | ILS RWY 6 AMDT 15A...
02/01/00 | PA | HAZELTON | HAZELTON MUNI | FDC 0/0924 | VOR RWY 10 AMDT 10B...
02/01/00 | PA | HAZELTON | HAZELTON MUNI | FDC 0/0925 | LOC RWY 28 AMDT 5B...
02/01/00 | PA | HAZELTON | HAZELTON MUNI | FDC 0/0926 | VOR RWY 28 AMDT 8B...
02/01/00 | PA | INDIANA | INDIANA COUNTY/JIMMY STEWART FIELD | FDC 0/0966 | LOC RWY 28 ORIG...
02/01/00 | PA | QUAKERTOWN | QUAKERTOWN | FDC 0/0927 | NDB OR GPS RWY 29 AMDT 9...
02/01/00 | PA | QUAKERTOWN | QUAKERTOWN | FDC 0/0928 | VOR RWY 29 ORIG...
02/01/00 | PA | SHAMOKIN | NORTHUMBERLAND COUNTY | FDC 0/0921 | GPS RWY 26 ORIG...
02/01/00 | PA | SHAMOKIN | NORTHUMBERLAND COUNTY | FDC 0/0923 | VOR OR GPS RWY 8 AMDT 3...
02/01/00 | SC | CHARLESTON | CHARLESTON AFB/INTL | FDC 0/0918 | NDB RWY 15 AMDT 18...
02/01/00 | TX | HOUSTON | GEORGE BUSH INTERCONTINENTAL AIRPORT | FDC 0/0975 | ILS RWY 8, AMDT 18F...
02/01/00 | VA | CHESAPEAKE | CHESAPEAKE REGIONAL | FDC 0/0931 | NDB RWY 5 AMDT 1B...
02/01/00 | VA | CHESAPEAKE | CHESAPEAKE REGIONAL | FDC 0/0932 | GPS RWY 5 AMDT 1...
02/01/00 | VA | CHESAPEAKE | CHESAPEAKE REGIONAL | FDC 0/0934 | LOC RWY 5 AMDT 2B...

[FR Doc. 00-2956 Filed 2-8-00; 8:45 am]

BILLING CODE 4910-13-M